FEDERAL DEPOSIT INSURANCE CORPORATION

Notice of Agency Meeting

Pursuant to the provisions of the “Government in the Sunshine Act” (5 U.S.C. 552b), notice is hereby given that the Federal Deposit Insurance Corporation's Board of Directors will meet in open session at 10:30 a.m. on Monday, June 28, 2004, to consider the following matters:

Summary Agenda: No substantive discussion of the following items is anticipated. These matters will be resolved with a single vote unless a member of the Board of Directors requests that an item be moved to the discussion agenda.

Disposition of minutes of previous Board of Directors' meetings.

Summary reports, status reports, and reports of actions taken pursuant to authority delegated by the Board of Directors.

Memorandum and resolution re: CRA Technical Amendments—Joint Interim Rule with Request for Comment.

Discussion Agenda:

Memorandum and resolution re: Notice and Request for Public Comment Pursuant to Economic Growth and Regulatory Paperwork Reduction Act of 1996 (EGRPRA).

Memorandum and resolution re: Notice of Proposed Rulemaking—12 CFR Part 334: Fair Credit Reporting Affiliate Marketing Regulations.

Memorandum and resolution re: Guidelines for Appeals of Material Supervisory Determinations and Guidelines for Appeals of Deposit Insurance Assessment Determinations.

Memorandum and resolution re: Final Rule on Capital Requirements for Asset-Backed Commercial Paper Programs.

Memorandum and resolution re: Notice of Proposed Rulemaking: Part 347—International Banking, and Part 303—Filing Procedures (Subpart J—International Banking).

The meeting will be held in the Board Room on the sixth floor of the FDIC Building located at 550—17th Street, NW., Washington, DC.

The FDIC will provide attendees with auxiliary aids (e.g., sign language interpretation) required for this meeting. Those attendees needing such assistance should call (202) 416-2089 (Voice); (202) 416-2007 (TTY), to make necessary arrangements.

Requests for further information concerning the meeting may be directed to Mr. Robert E. Feldman, Executive Secretary of the Corporation, at (202) 898-7043.

Dated: June 21, 2004.
Federal Deposit Insurance Corporation.
Robert E. Feldman,
Executive Secretary.

[FR Doc. E4-1412 Filed 6-23-04; 8:45 am]

BILLING CODE 6714-01-P